NATIONAL SCIENCE FOUNDATION

Sunshine Act Meetings

FEDERAL REGISTER CITATION OF PREVIOUS ANNOUNCEMENT: The meeting was noticed on July 22, 2024, at 89 FR 59170-59171.

PREVIOUSLY ANNOUNCED TIME AND DATE OF THE MEETING: Wednesday, July 24, 2024, from 4:10-5:25 p.m. EDT.

CHANGES IN THE MEETING: There are two additional agenda items in the meeting. They are strategic planning and roadmaps, and FY 2024 budget update.

CONTACT PERSON FOR MORE INFORMATION: Point of contact for this meeting is: Chris Blair, cblair@nsf.gov, 703/292-7000.

Ann Bushmiller,
Senior Counsel to the National Science Board.

[FR Doc. 2024-16576 Filed 7-24-24; 11:15 am]

BILLING CODE 7555-01-P